DEPARTMENT OF HOMELAND SECURITY

Federal Emergency Management Agency

[Docket ID FEMA-2014-0002; Internal Agency Docket No. FEMA-B-1454]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: November 24, 2014.
Roy E. Wright,
Deputy Associate Administrator for Mitigation, Department of Homeland Security, Federal Emergency Management Agency.

State and county | Location and case No. | Chief executive officer of community | Community map repository | Online location of letter of map revision | Effective date of modification | Community No.
Alabama:
Shelby | Unincorporated areas of Shelby County (14-04-4029P) | The Honorable Lindsey Allison, Chair, Shelby County Commission, 454 Valley View Drive, Pelham, AL 35124 | Shelby County Engineer's Office, 506 Highway 70, Columbiana, AL 35051 | http://www.msc.fema.gov/lomc | Feb. 19, 2015 | 010191
Tuscaloosa | City of Tuscaloosa (14-04-4663P) | The Honorable Walter Maddox, Mayor, City of Tuscaloosa, 2201 University Boulevard, Tuscaloosa, AL 35401 | Engineering Department, 2201 University Boulevard, Tuscaloosa, AL 35401 | http://www.msc.fema.gov/lomc | Jan. 15, 2015 | 010203
Arizona:
Maricopa | City of Chandler (14-09-2082P) | The Honorable Jay Tibshraeny, Mayor, City of Chandler, P.O. Box 4008, Chandler, AZ 85244 | Public Works Department, 215 East Buffalo Street, Chandler, AZ 85244 | http://www.msc.fema.gov/lomc | Jan. 23, 2015 | 040040
Maricopa | City of Phoenix (14-04-2027P) | The Honorable Greg Stanton, Mayor, City of Phoenix, 200 West Washington Street, 11th Floor, Phoenix, AZ 85003 | Street Transportation Department, 200 Washington Street, 5th Floor, Phoenix, AZ 85003 | http://www.msc.fema.gov/lomc | Jan. 29, 2015 | 040051
Maricopa | City of Surprise (14-09-2037P) | The Honorable Sharon Wolcott, Mayor, City of Surprise, 16000 North Civic Center Plaza, Surprise, AZ 85374 | Community Development Services Department, 12425 West Bell Road, Suite D-100, Surprise, AZ 85374 | http://www.msc.fema.gov/lomc | Jan. 16, 2015 | 040053
Pima | Unincorporated areas of Pima County (14-09-3325P) | The Honorable Sharon Bronson, Chair, Pima County Board of Supervisors, 130 West Congress Street, 11th Floor, Tucson, AZ 85701 | Pima County Flood Control District, 97 East Congress Street, 3rd Floor, Tucson, AZ 85701 | http://www.msc.fema.gov/lomc | Feb. 26, 2015 | 040073
Santa Cruz | Unincorporated areas of Santa Cruz County (14-09-3102P) | The Honorable John Maynard, Chairman, Santa Cruz County Board of Supervisors, 2150 North Congress Drive, Nogales, AZ 85621 | Santa Cruz County Flood Control District, 2150 North Congress Drive, Nogales, AZ 85621 | http://www.msc.fema.gov/lomc | Feb. 2, 2015 | 040090
California:
Los Angeles | City of Los Angeles (14-09-3226P) | The Honorable Eric Garcetti, Mayor, City of Los Angeles, 200 North Spring Street, Suite 303, Los Angeles, CA 90015 | Public Works Department, 1149 South Broadway, Suite 810, Los Angeles, CA 90015 | http://www.msc.fema.gov/lomc | Feb. 9, 2015 | 060137
Mendocino | Unincorporated areas of Mendocino County (14-09-3500P). | The Honorable John Pinches, Chairman, Mendocino County Board of Supervisors, 501 Low Gap Road, Ukiah, CA 95482 | Mendocino County Planning and Building Services Department, 860 North Bush Street, Ukiah, CA 95482 | http://www.msc.fema.gov/lomc | Jan. 29, 2015 | 060183
Riverside | City of Jurupa Valley (14-09-3381P) | The Honorable Frank Johnston, Mayor, City of Jurupa Valley, 8304 Limonite Avenue, Suite M, Jurupa Valley, CA 92509 | City Hall, 8304 Limonite Avenue, Suite M, Jurupa Valley, CA 92509 | http://www.msc.fema.gov/lomc | Feb. 9, 2015 | 060286
San Diego | Unincorporated areas of San Diego County (14-09-3872P) | The Honorable Dianne Jacob, Chair, San Diego County Board of Supervisors, 1600 Pacific Highway, San Diego, CA 92101 | San Diego County Department of Public Works, Flood Control Division, 5510 Overland Avenue, Suite 410, San Diego, CA 92123 | http://www.msc.fema.gov/lomc | Feb. 19, 2015 | 060284
Santa Clara | Town of Los Altos Hills (14-09-3550P) | The Honorable John Radford, Mayor, Town of Los Altos Hills, 26379 Fremont Road, Los Altos Hills, CA 94022 | Public Works Department, 26379 Fremont Road, Los Altos Hills, CA 94022 | http://www.msc.fema.gov/lomc | Jan. 8, 2015 | 060342
Colorado:
Boulder | City of Longmont (14-08-0705P) | The Honorable Dennis Coombs, Mayor, City of Longmont, 350 Kimbark Street Longmont, CO 80501 | Service Center, 1100 South Sherman Street, Longmont, CO 80501 | http://www.msc.fema.gov/lomc | Jan. 26, 2015 | 080027
Douglas | Town of Castle Rock (14-08-1036P) | The Honorable Paul Donahue, Mayor, Town of Castle Rock, 100 North Wilcox Street, Castle Rock, CO 80104 | Utilities Department, 175 Kellogg Court, Castle Rock, CO 80109 | http://www.msc.fema.gov/lomc | Jan. 30, 2015 | 080050
Douglas | Unincorporated areas of Douglas County (14-08-1036P) | The Honorable Roger Partridge, Chairman, Douglas County Board of Commissioners, 100 3rd Street, Castle Rock, CO 80104 | Douglas County Public Works Department, Engineering Division, 100 3rd Street, Castle Rock, CO 80104 | http://www.msc.fema.gov/lomc | Jan. 30, 2015 | 080049
El Paso | City of Colorado Springs (14-08-0534P) | The Honorable Steve Bach, Mayor, City of Colorado Springs, 30 South Nevada Avenue, Colorado Springs, CO 80903 | City Administration, 30 South Nevada Avenue, Colorado Springs, CO 80903 | http://www.msc.fema.gov/lomc | Jan. 29, 2015 | 080060
El Paso | Town of Monument (14-08-0567P) | The Honorable Rafael Dominguez, Mayor, Town of Monument, 645 Beacon Lite Road, Monument, CO 80132 | Town Hall, 645 Beacon Lite Road, Monument, CO 80132 | http://www.msc.fema.gov/lomc | Feb. 19, 2015 | 080064
El Paso | Unincorporated areas of El Paso County (14-08-0534P) | The Honorable Dennis Hisey, Chairman, El Paso County Board of Commissioners, 200 South Cascade Avenue, Suite 100, Colorado Springs, CO 80903 | El Paso County Administrator, 2880 International Circle, Colorado Springs, CO 80910 | http://www.msc.fema.gov/lomc | Jan. 29, 2015 | 080059
El Paso | Unincorporated areas of El Paso County (14-08-0567P) | The Honorable Dennis Hisey, Chairman, El Paso County Board of Commissioners, 200 South Cascade Avenue, Suite 100, Colorado Springs, CO 80903 | El Paso County Administrator, 2880 Interntional Circle, Colorado Springs, CO 80910 | http://www.msc.fema.gov/lomc | Feb. 19, 2015 | 080059
Florida:
Charlotte | Unincorporated areas of Charlotte County (14-04-7742P) | The Honorable Ken Doherty, Chairman, Charlotte County Board of Commissioners, 18500 Murdock Circle, Suite 536, Port Charlotte, FL 33948 | Charlotte County Community Development Department, 18500 Murdock Circle, Port Charlotte, FL 33948 | http://www.msc.fema.gov/lomc | Jan. 29, 2015 | 120061
Duval | City of Jacksonville (14-04-5730P) | The Honorable Alvin Brown, Mayor, City of Jacksonville, 117 West Duval Street, Suite 400, Jacksonville, FL 32202 | City Hall, 117 West Duval Street, Jacksonville, FL 32202 | http://www.msc.fema.gov/lomc | Dec. 26, 2014 | 120077
Duval | City of Jacksonville (14-04-6014P) | The Honorable Alvin Brown, Mayor, City of Jacksonville, 117 West Duval Street, Suite 400, Jacksonville, FL 32202 | City Hall, 117 West Duval Street, Jacksonville, FL 32202 | http://www.msc.fema.gov/lomc | Jan. 12, 2015 | 120077
Hillsborough | Unincorporated areas of Hillsborough County (13-04-1630P) | The Honorable Mark Sharpe, Chairman, Hillsborough County Board of Commissioners, 601 East Kennedy Boulevard, Tampa, FL 33602 | Hillsborough County Public Works Department, 601 East Kennedy Boulevard, Tampa, FL 33602 | http://www.msc.fema.gov/lomc | Feb. 23, 2015 | 120112
Orange | City of Orlando (14-04-7362P) | The Honorable Buddy Dyer, Mayor, City of Orlando, 400 South Orange Avenue, Orlando, FL 32802 | Permitting Services Department, 400 South Orange Avenue, Orlando, FL 32802 | http://www.msc.fema.gov/lomc | Jan. 23, 2015 | 120186
Georgia:
Lee | Unincorporated areas of Lee County (14-04-0919P) | The Honorable Rick Muggridge, Chairman, Lee County Board of Commissioners, 110 Starkville Avenue North, Leesburg, GA 31763 | Lee County Courthouse, 104 Leslie Highway, Leesburg, GA 31763 | http://www.msc.fema.gov/lomc | Feb. 19, 2015 | 130122
Worth | Unincorporated areas of Worth County (14-04-0919P) | The Honorable Mike Cosby, Chairman, Worth County Board of Commissioners, 201 North Main Street, Sylvester, GA 31791 | Worth County Courthouse, 201 North Main Street, Sylvester, GA 31791 | http://www.msc.fema.gov/lomc | Feb. 19, 2015 | 130196
Hawaii: Hawaii | Hawaii County (14-09-2534P) | The Honorable William P. Kenoi, Mayor, Hawaii County, 25 Aupuni Street, Hilo, HI 96720 | Department of Public Works, 101 Pauahi Street, Suite 7, Hilo, HI 96720. | http://www.msc.fema.gov/lomc | Feb. 9, 2015 | 155166
Nevada:
Clark | City of Henderson (14-09-2535P) | The Honorable Andy A. Hafen, Mayor, City of Henderson, P.O. Box 95050, Henderson, NV 89009 | Public Works Department, 240 Water Street, Henderson, NV 89015 | http://www.msc.fema.gov/lomc | Feb. 2, 2015 | 320005
Douglas | Unincorporated areas of Douglas County (14-09-1494P) | The Honorable Doug N. Johnson, Chairman, Douglas County Board of Commissioners, P.O. Box 218, Minden, NV 89423 | Douglas County Public Works Department, 1615 8th Street, Minden, NV 89423 | http://www.msc.fema.gov/lomc | Jan. 22, 2015 | 320008
Elko | City of Elko (14-09-3720P) | The Honorable Chris J. Johnson, Mayor, City of Elko, 1751 College Avenue, Elko, NV 89801 | Engineering Department, 1751 College Avenue, Elko, NV 89801 | http://www.msc.fema.gov/lomc | Feb. 5, 2015 | 320010
North Carolina: Graham | Unincorporated areas of Graham County (14-04-1210P) | Mr. Greg Cable, Manager, Graham County, 12 North Main Street, Robbinsville, NC 28771 | Graham County Emergency Management Services Department, 70 West Fort Hill Road, Robbinsville, NC 28771 | http://www.msc.fema.gov/lomc | Jan. 30, 2015 | 370105
South Carolina:
Charleston | Town of Hollywood (14-04-2513P) | The Honorable Jacquelyn S. Heyward, Mayor, Town of Hollywood, P.O. Box 519, Hollywood, SC 29449 | Town Hall, 6316 Highway 162, Hollywood, SC 29449 | http://www.msc.fema.gov/lomc | Feb. 2, 2015 | 450037
Charleston | Town of Ravenel (14-04-2514P) | The Honorable Opal N. Baldwin, Mayor, Town of Ravenel, 5962 Highway 165, Suite 100, Ravenel, SC 29470 | Town Hall, 5962 Highway 165, Suite 100, Ravenel, SC 29470 | http://www.msc.fema.gov/lomc | Feb. 2, 2015 | 450043
Charleston | Unincorporated areas of Charleston County (14-04-2513P) | The Honorable Teddie E. Pryor, Sr., Chairman, Charleston County Council, 4045 Bridge View Drive, North Charleston, SC 29405 | Charleston County Building Inspection Services Department, 4045 Bridge View Drive, North Charleston, SC 29405 | http://www.msc.fema.gov/lomc | Feb. 2, 2015 | 455413
Charleston | Unincorporated areas of Charleston County (14-04-2514P) | The Honorable Teddie E. Pryor, Sr., Chairman, Charleston County Council, 4045 Bridge View Drive, North Charleston, SC 29405 | Charleston County Building Inspection Services Department, 4045 Bridge View Drive, North Charleston, SC 29405 | http://www.msc.fema.gov/lomc | Feb. 2, 2015 | 455413
Charleston | Unincorporated areas of Charleston County (14-04-3481P) | The Honorable Teddie E. Pryor, Sr., Chairman, Charleston County Council, 4045 Bridge View Drive, North Charleston, SC 29405 | Charleston County Building Inspection Services Department, 4045 Bridge View Drive, North Charleston, SC 29405 | http://www.msc.fema.gov/lomc | Feb. 2, 2015 | 455413
Horry | City of North Myrtle Beach, (14-04-7517P) | The Honorable Marilyn Hatley, Mayor, City of North Myrtle Beach, 1018 2nd Avenue South, North Myrtle Beach, SC 29582 | Planning and Development Department, 1015 2nd Avenue South, North Myrtle Beach, SC 29582 | http://www.msc.fema.gov/lomc | Jan. 15, 2015 | 450110
Utah: Davis | City of Kaysville (14-08-0888P) | The Honorable Steve A. Hiatt, Mayor, City of Kaysville, 23 East Center Street, Kaysville, UT 84037 | City Hall, 23 East Center Street, Kaysville, UT 84037 | http://www.msc.fema.gov/lomc | Feb. 13, 2015 | 490046

[FR Doc. 2014-29433 Filed 12-15-14; 8:45 am]

BILLING CODE 9110-12-P